DEPARTMENT OF COMMERCE

National Institute of Standards and Technology

Notice of Prospective Grant of Exclusive Patent License

AGENCY: National Institute of Standards and Technology, Commerce.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 5,514,501 (Application No. 08/255,961), titled “Process For UV-Photopatterning of Thiolate Monolayers Self-Assembled On Gold, Silver and Other Substrates,” NIST Docket No. 93-047US to Stratos Biosystems, LLC, having a place of business at 2401 Elliott Avenue, 5th Floor, Seattle, Washington 98121. The grant of the license would be for the field of use: Substrates for analysis of proteins and nucleic acids by mass spectrometry in the Life Sciences Research and In Vitro Diagnostic markets.

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7. The availability of the invention for licensing was published in the Federal Register on October 11, 1994.

U.S. Patent No. 5,514,501 is owned by the U.S. government, as represented by the Secretary of Commerce. The invention is a process for creating a two dimensional spacial distribution pattern of ferent thiolate molecules on a substrate by illuminating a surface of a self-assembled monolayer of a first thiolate compound in the presence of oxygen with high frequency electromagnetic radiation distributed according to a desired pattern, and subsequently immersing the illuminated substrate in a solution of a second thiolate compound so that molecules of the first thiolate compound in illuminated areas of the monolayer are exchanged for molecules of said second thiolate compound; and a patterned biomolecular composite formed of a substrate which forms a self-assembled thiolate monolayer when immersed in a solution of a thiolate forming compound, a thiolate monolayer deposited on the substrate and composed of patterned areas of first and second thiolate compounds, respectively, the first thiolate compound having an affinity for specifically or nonspecifically adsorbing a biological molecule, and the second thiolate compound having essentially no affinity for the biological molecule, and at least one biological material adsorbed in a corresponding pattern on the patterned areas of the first thiolate compound in the thiolate monolayer.

Dated: March 9, 2007.
James E. Hill,
Acting Deputy Director.

[FR Doc. E7-4865 Filed 3-15-07; 8:45 am]

BILLING CODE 3510-13-P